DEPARTMENT OF ENERGY

10 CFR Parts 430 and 431

[Docket Number EERE-2011-BT-NOA-0038]

Energy Conservation Program: Treatment of “Smart” Appliances in Energy Conservation Standards and Test Procedures

AGENCY: Office of Energy Efficiency and Renewable Energy, Department of Energy.

ACTION: Request for information (RFI).

SUMMARY: The U.S. Department of Energy (DOE) seeks information and comments related to the analytical treatment of “smart” appliances in the development of DOE's energy conservation standards, as well as in test procedures used to demonstrate compliance with DOE's standards and qualification as an ENERGY STAR product.

DATES: Written comments and information are requested on or before September 6, 2011.

ADDRESSES: Interested persons are encouraged to submit comments using the Federal eRulemaking Portal at http://www.regulations.gov. Follow the instructions for submitting comments. Alternatively, interested persons may submit comments, identified by docket number EERE-2011-BT-NOA-0038, by any of the following methods:

• E-mail: to SmartApplianceRFI-2011-NOA-0038@ee.doe.gov. Include EERE-2011-BT-NOA-0038 in the subject line of the message.

• Mail: Ms. Brenda Edwards, U.S. Department of Energy, Building Technologies Program, Mailstop EE-2J, Energy Conservations Standards: Treatment of Smart Appliances, EERE-2011-BT-NOA-0038, 1000 Independence Avenue, SW., Washington, DC 20585-0121. Phone: (202) 586-2945. Please submit one signed paper original.

• Hand Delivery/Courier: Ms. Brenda Edwards, U.S. Department of Energy, Building Technologies Program, 6th Floor, 950 L'Enfant Plaza, SW., Washington, DC 20024. Phone: (202) 586-2945. Please submit one signed paper original.

• Instructions: All submissions received must include the agency name and docket number for this rulemaking.

Docket: For access to the docket to read background documents, or comments received, go to the Federal eRulemaking Portal at http://www.regulations.gov.

FOR FURTHER INFORMATION CONTACT: Requests for additional information may be sent to:

Ms. Ashley Armstrong, U.S. Department of Energy, Office of Energy Efficiency and Renewable Energy, Building Technologies Program, EE-2J, 1000 Independence Avenue, SW., Washington, DC 20585-0121. Telephone: 202-586-6590. E-mail: Ashley.Armstrong@ee.doe.gov.

In the office of the General Counsel, contact Ms. Elizabeth Kohl, U.S. Department of Energy, Office of the General Counsel, 1000 Independence Ave., SW., Room 6A-179, Washington, DC 20585. Telephone: 202-586-7796; E-mail: Elizabeth.Kohl@hq.doe.gov.

SUPPLEMENTARY INFORMATION: In support of its Energy Conservation Standards Rulemakings, DOE conducts in-depth technical and economic analyses based on publicly reviewed methodologies. The results of these analyses determine whether new or amended standards are appropriate, and if so, which standard levels should be adopted. DOE continually seeks data and public input to improve the methodologies used to conduct these important analyses.

The impact of “smart” appliances in the marketplace affects other programs as well. On January 6, 2011, several interested parties of consumer products, including manufacturers and energy efficiency advocates, submitted a joint petition to the ENERGY STAR program regarding smart grid enabled appliances. These stakeholders requested the Environmental Protection Agency (EPA) consider a five percent credit to the ENERGY STAR performance level for smart grid enabled appliances that can provide demand response. In its response to stakeholders, EPA indicated it would continue to work closely with stakeholders to consider the opportunity and appropriate timing for ENERGY STAR product specifications to address smart grid functionality. EPA recently issued a framework document for residential refrigerators, which began discussing the possibilities of a 5-percent credit in the specification. DOE, as the lead agency for developing test procedures for the ENERGY STAR program, will be developing, to the extent necessary, test procedures for smart grid capable products. This RFI is intended to support DOE's efforts to develop such test procedures and solicit feedback on general issues regarding smart appliances within the Appliance Standards Program.

In this RFI, DOE seeks comment on whether and how to consider “smart appliances” in the development of energy conservation standards and test procedures for DOE's Appliance Standards Program and the ENERGY STAR Program. “Smart” features may enable a variety of services, including the ability of an appliance to change its normal operating behavior in response to a signal from a utility or another agent. Typical examples of operating changes include load shifting and load shedding in response to a price signal or a grid reliability event. Such capabilities could change the energy use profile of the appliance in active and/or standby mode and may require modifications to DOE's traditional test procedure and energy conservation standards analytical framework used during rulemakings.

In particular, DOE seeks comment and information on the specific topics below:

Definitional Issues

DOE recognizes that the term “smart appliance” may be defined differently by different parties and is often used to refer to any number of capabilities or bundle of capabilities. If DOE were to account for the “smart” features of appliances in some manner in its test procedures and energy conservation standards analyses, it may be necessary to define some of these capabilities. Of the potential capabilities under the “smart” umbrella, some are specific to demand response, some to energy efficiency, and some to consumer control or preferences. Many features do more than one of these things. Given the foregoing, DOE seeks input on the following definitional issues regarding “smart” appliances.

In your responses, to the extent possible, please specify whether your comments apply to all DOE covered products or to a specific product and whether they are meant for the ENERGY STAR Program, the Appliance Standards Program, or both.

• How should “smart” appliances be defined for the purposes of the Appliance Standards Program and ENERGY STAR test procedures? It may be useful to subdivide these “smart” capabilities into several defined categories. Is there a specific subset of features or capabilities that should be part of a “smart appliance” definition?

• Should the definition of a “smart” appliance vary based on the product type or should it be the same for all DOE covered products? Should it require certain minimum qualifications for all products (e.g., the ability to shed or shift load) and then have additional qualifications on a product-by-product basis?

• Should the definition of “smart” appliances include requirements for communication capabilities? For example, should it specify the use of one of a set of required communication protocols? Should the definition require two-way communication capability? If so, what data should the appliance be capable of sending and receiving, and how frequently?

• Should “smart” appliances be required to have any specific technical capabilities (maintenance reminders, certain energy savings modes, programmable operations, etc.)?

• To what extent is it important that the definition of “smart” appliances be the same for DOE's regulatory Appliance Standards Program and the voluntary ENERGY STAR Program?

Test Procedures

DOE test procedures are fundamental to the Appliance Standards Program because they establish the protocols and metrics for measuring the energy use or efficiency of products subject to energy conservation standards. Incorporating the measurement and verification of “smart” capabilities into DOE test procedures may add complexity and uncertainty to those test procedures, and potentially increase burden on manufacturers required to test their products. DOE is therefore interested in stakeholder feedback concerning if and how test procedures should be amended to measure and verify the capabilities of “smart” appliances. Presumably, these capabilities would be specified in the definition of “smart” appliances.

• How, if at all, should DOE test procedures be amended to accommodate the particular energy-using characteristics of “smart” appliances?

• Should the portion of a given test procedure that verifies the “smart” capabilities of the appliance be an “add-on” to the existing test procedure's structure, which would essentially qualify or disqualify the appliance as “smart?” In the alternative, should the portion of a given test procedure that verifies the “smart” capabilities of the appliance be integrated into the existing test procedure and internalized in the outputted metric on a product-by-product basis?

• The “smart” capabilities of an appliance are considered as part of a “network mode.” IEC 62301 defines network mode(s) as: “Any product modes where the energy using product is connected to a mains power source and at least one network function is activated (such as reactivation via network command or network integrity communication) but where the primary function is not active.” Does this definition apply to all covered products and consumer equipment, or would other definitions apply more appropriately to certain products or equipment?

• EPCA authorizes DOE to set standards in active, standby, and off mode and to amend the EPCA definitions for these modes as appropriate for a given product. DOE requests comments on which of these three modes should be used to capture “network” mode energy use, or whether more than one of these modes should be used.

• How do you expect “smart” capabilities to change the energy use of an appliance in active and standby modes? What is the energy use impact of “network mode” and how should it be accounted for in test procedures?

• How should test procedures deal with various communication standards and protocols?

Implications for Energy Conservation Standards Analyses

DOE recognizes that “smart” appliances, however defined, could have implications on the economics and energy use of covered products analyzed during the energy conservation standards rulemakings.

• What costs and benefits of “smart” appliances can and should DOE account for within the appliance standards analytical framework? DOE seeks information and data that would help quantify such costs and benefits.

• DOE requests information and data on how, if at all, product and equipment energy usage profiles change when they are equipped with “smart” capabilities. DOE specifically seeks data related to covered products and equipment.

• DOE seeks estimates and underlying assumptions for market share penetration estimates of “smart” appliances, as well as other complementary technologies (such as smart meters) that may be necessary to the realization of “smart appliance” benefits.

• DOE seeks information and data from pilot programs or studies involving “smart” appliances. DOE also requests information of international voluntary and regulatory programs addressing “smart” appliances.

Issued in Washington, DC, on July 22, 2011.
Kathleen Hogan,
Deputy Assistant Secretary for Energy Efficiency, Office of Technology Development, Energy Efficiency and Renewable Energy.

[FR Doc. 2011-19303 Filed 8-4-11; 8:45 am]

BILLING CODE 6450-01-P